DEPARTMENT OF THE INTERIOR

Fish and Wildlife Service

Information Collection Submitted to the Office of Management and Budget (OMB) for Approval Under the Paperwork Reduction Act; Migratory Bird Harvest Surveys

AGENCY: Fish and Wildlife Service, Interior.

ACTION: Notice; request for comments.

SUMMARY: The U.S. Fish and Wildlife Service has submitted the collection of information listed below to OMB for approval under the provisions of the Paperwork Reduction Act. If you wish to obtain copies of the proposed information collection requirement, related forms, or explanatory material, contact the Service Information Collection Clearance Officer at the address listed below.

DATES: OMB has up to 60 days to approve or disapprove information collection but may respond after 30 days. Therefore, to ensure maximum consideration, you must submit comments on or before November 12, 2004.

ADDRESSES: Submit your comments on this information collection to the Desk Officer for the Department of the Interior at OMB-OIRA via facsimile or electronic mail: (202) 395-6566 (fax); or OIRA_DOCKET@omb.eop.gov (electronic mail). Please provide a copy of your comments to the Fish and Wildlife Service's Information Collection Clearance Officer via postal mail, electronic mail, or facsimile: 4401 N. Fairfax Dr., MS 222 ARLSQ, Arlington, VA 22203; Hope_Grey@fws.gov (electronic mail); or (703) 358-2269 (fax).

FOR FURTHER INFORMATION CONTACT: To request a copy of the information collection request, explanatory information, or related forms, contact Hope Grey at(703) 358-2482, or electronically to Hope_Grey@fws.gov.

SUPPLEMENTARY INFORMATION: The Office of Management and Budget (OMB) regulations at 5 CFR part 1320, which implement provisions of the Paperwork Reduction Act of 1995 (44 U.S.C. 3501 et seq.), require that interested members of the public and affected agencies be given an opportunity to comment on information collection and record keeping activities (see 5 CFR 1320.8(d)). The U.S. Fish and Wildlife Service (We) have submitted a request to OMB to renew its approval of the collection of information for the Migratory Bird Harvest Surveys. We are requesting a 3-year term of approval for this information collection activity.

Federal agencies may not conduct or sponsor, and a person is not required to respond to, a collection of information unless it displays a currently valid OMB control number. The OMB control number for this collection of information is 1018-0015.

The Migratory Bird Treaty Act (16 U.S.C. 703-711) and Fish and Wildlife Act of 1956 (16 U.S.C. 742d) designate the Department of the Interior as the key agency responsible for the wise management of migratory bird populations frequenting the United States and for the setting of hunting regulations that allow appropriate harvests that are within the guidelines that will allow for those populations' well-being. These responsibilities dictate the gathering of accurate data on various characteristics of migratory bird harvest. Knowledge attained by determining harvests and harvest rates of migratory game birds is used to regulate populations (by promulgating hunting regulations) and to encourage hunting opportunity, especially where crop depredations are chronic and/or lightly harvested populations occur. Based on information from harvest surveys, hunting regulations can be adjusted as needed to optimize harvests at levels that provide a maximum of hunting recreation while keeping populations at desired levels.

This information collection approval request combines two sets of surveys (the Migratory Bird Hunter Survey and the Parts Collection Survey) and associated forms because they are interrelated and/or dependent upon each other. The Waterfowl Hunter Survey that was previously included in this information collection, and its associated forms (form 3-1823A and 3-2056G), have now been completely replaced by the Migratory Bird Hunter Survey and therefore are eliminated.

The Migratory Bird Hunter Survey is based on the Migratory Bird Harvest Information Program, under which each State annually provides a list of all licensed migratory bird hunters in the State. Randomly selected migratory bird hunters are sent either a waterfowl questionnaire (form 3-2056J), a dove and band-tailed pigeon questionnaire (form 3-2056K), a woodcock questionnaire (form 3-2056L), or a snipe, rail, gallinule, and coot questionnaire (form 3-2056M) and are asked to report their harvest of those species. The resulting estimates of harvest per hunter are combined with the complete list of migratory bird hunters to provide estimates of the total harvest of those species.

The Parts Collection Survey estimates the species, sex, and age composition of the harvest, and the geographic and temporal distribution of the harvest. Randomly selected successful hunters who responded to the Migratory Bird Hunter Survey the previous year are asked to complete and return a postcard (forms 3-165A and C) if they are willing to participate in the Parts Collection Survey. Respondents are provided postage-paid envelopes before the hunting season and asked to send in a wing or the tail feathers from each duck, goose, or coot (form 3-165) they harvest, or a wing from each woodcock, band-tailed pigeon, snipe, rail, or gallinule (form 3-165B) they harvest. The wings and tail feathers are used to identify the species, age, and sex of the harvested sample. Respondents are also asked to report on the envelope the date and location (state and county) of harvest for each bird. Results of this survey are combined with harvest estimates from the Migratory Bird Hunter Survey to provide species-specific national harvest estimates.

The combined results of these surveys enable the Service to evaluate the effects of season length, season dates, and bag limits on the harvest of each species, and thus help determine appropriate hunting regulations.

On March 29, 2004, we published in the Federal Register (69 FR 16283) a notice informing the public that we planned to submit the forms described below to OMB for approval under the Paperwork Reduction Act. We requested public comment on the information collection for 60 days, ending May 28, 2004. By that date, we did not receive any comments in response to the notice.

Title: Migratory Bird Harvest Surveys.

Approval Number: 1018-0015.

Service Form Number(s): 3-165, 3-165A-C, 3-2056J-M.

Frequency of Collection: Annually.

Description of Respondents: Individuals and households.

Number of Respondents: About 3,600,000 individuals are expected to participate in the Migratory Bird Harvest Information Program. Recent Service experience indicates that about 80,000 hunters will respond to the Migratory Bird Hunter Survey each year, and about 9,500 hunters will respond to the Parts Collection Survey annually.

Total Annual Burden Hours: Total annual burden is estimated to be 135,930 hours. The reporting burden is estimated to average 2 minutes per respondent for the Migratory Bird Harvest Information Program, 4 minutes per respondent for the Migratory Bird Hunter Survey, and 50 minutes per respondent for the Parts Collection Survey.

We again invite comments concerning this renewal on: (1) Whether the collection of information is necessary for the proper performance of our migratory bird management functions, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C 552(a)).

Dated: September 30, 2004.
Hope G. Grey,
Information Collection Clearance Officer, Fish and Wildlife Service.

[FR Doc. 04-22846 Filed 10-8-04; 8:45 am]

BILLING CODE 4310-55-P